LEGAL SERVICES CORPORATION

Notice of Availability of Calendar Year 2025 Competitive Grant Funds for the Technology Initiative Grant Program

AGENCY: Legal Services Corporation.

ACTION: Notice.

SUMMARY: The Legal Services Corporation (LSC) issues this Notice describing the conditions for submitting a pre-application for 2025 Technology Initiative Grants (TIGs), and for applying under TIG categories that do not require pre-applications.

DATES: The deadline to submit a Pre-Application is 11:59 p.m. eastern standard time on Friday, March 21, 2025.

ADDRESSES: Pre-Applications must be submitted electronically via LSC's unified grants management system, GrantEase.

FOR FURTHER INFORMATION CONTACT: Eric Mathison, TIG Special Grants Coordinator, Office of Program Performance, Legal Services Corporation, 3333 K Street NW, Washington, DC 20007; (202) 295-1535 or mathisone@lsc.gov.

SUPPLEMENTARY INFORMATION:

I. Introduction

Since 2000, Congress has provided an annual appropriation to LSC to award special funding for client self-help and information technology projects. LSC's TIG program funds technology tools that help achieve LSC's goal of increasing the quantity and quality of legal services available to eligible persons. Projects funded under the TIG program develop, test, and replicate innovative technologies that can enable grant recipients and State justice communities to improve low-income persons' access to high-quality legal assistance through an integrated and well-managed technology system. The TIG program also supports effective technology planning and management at LSC-funded organizations through the use of targeted assessment grants focused on improvements to technology systems and information security.

II. Funding Opportunity Information

A. Eligible Applicants

To be eligible for Technology Initiative Grants, applicants must be current grantees of LSC Basic Field-General, Basic Field-Migrant, or Basic Field-Native American grants. In addition, applicants must receive basic field funding of at least a one-year term, be up to date on reporting on any existing TIG-funded projects, and not have had a previous TIG terminated in the past three years for reporting or other performance issues.

B. Technology Initiative Grant Purpose and Key Goals

Since LSC's TIG program was established in 2000, LSC has made over 923 grants totaling over $91 million. This grant program encourages organizations to use technology in innovative ways to:

1. Effectively and efficiently provide high-quality legal assistance to low-income persons and to promote access to the judicial system through legal information, advice, and representation.

2. Improve service delivery, quality of legal work, and management and administration of grantees.

3. Develop, test, and replicate innovative strategies that can enable grantees and State justice communities to improve clients' access to high-quality legal assistance.

C. Funding Categories

1. General Technology Initiative Grants

Projects in this category (1) implement new or innovative approaches for using technology in legal services delivery; (2) enhance the effectiveness and efficiency of existing technologies so that they may be better used to increase the quality and quantity of services to clients; or (3) replicate, adapt, or provide added value to the work of prior technology projects. This includes, but is not limited to, the implementation and improvement of tested methodologies and technologies from previous TIG projects. We also encourage replication of proven technologies from non-LSC-funded legal aid organizations as well as sectors outside the legal aid community. Applicants seeking continuation funding for their own existing TIG initiatives may wish to apply under the Sustainability, Enhancement, and Adoption (SEA) Grants category discussed below.

LSC recommends a minimum amount for funding requests in this category of $40,000, but projects with lower budgets will be considered. There is no maximum amount for TIG funding requests that are within the total appropriation for TIG.

All applicants in this category must submit a pre-application according to the process and requirements outlined in this notice. LSC will open the application system and provide guidance for this project category by January 29, 2025. The pre-application deadline is March 21, 2025, and the full application deadline is June 18, 2025.

2. Technology Improvement Projects

LSC recognizes that grantees need sufficient technology infrastructure in place before they can take on a more innovative TIG project. This grant category is for applicants who need to improve their basic technology infrastructure or their information security posture. The maximum funding amount for this category is $35,000.

Technology Improvement Projects (TIP) do not require a pre-application. LSC will open the application system and provide guidance for this project category by April 1, 2025. The application deadline for Technology Improvement Projects is May 23, 2025.

3. Sustainability, Enhancement, and Adoption Grants

Sustainability, Enhancement, and Adoption (SEA) Grants allow successful TIG grantees to further build upon a specific project and its technologies, ensure that their TIG-funded work is effectively integrated into the service delivery system, and complete the project activities necessary to ensure the initiative's long-term success. These grants were formerly known as Adoption, Expansion, and Enhancement Grants.

SEA Grants are available to current TIG recipients and to recipients of recently completed TIG projects. Applicants seeking to enhance a non-TIG initiative or replicate another organization's project should apply under the General category. LSC encourages all prospective applicants to meet with their regional TIG program manager to discuss whether an SEA Grant may be a good fit. Applicants should be able to clearly demonstrate that their current or prior TIG project was successful and that they have a reasonable plan for building on that success.

LSC recommends a minimum amount for funding requests in this category of $40,000, but projects with lower budgets will be considered. There is no maximum amount for TIG funding requests that are within the total appropriation for TIG.

SEA Grants will require a pre-application for 2025. LSC will open the application system and provide guidance for this project category by January 29, 2025. The pre-application deadline is March 21, 2025, and the full application deadline is June 18, 2025.

D. Available Funds for 2025 Grants

The amount of funds available for TIG awards for FY2025 depends on LSC's final appropriation. LSC currently operates under a Continuing Resolution for FY2025, which funds the Federal Government through March 14, 2025. The Continuing Resolution maintains funding at $5,000,000. TIG award decisions for FY2025 will be made in the summer of 2025. LSC anticipates publicizing the total amount available for TIG awards when Congress enacts the FY2025 appropriation.

LSC will not designate fixed or estimated amounts for the three different funding categories and will make grant awards within the total amount of funding available.

E. Grant Terms

Applicants to the TIG program may propose grant terms between 12 and 36 months for general category projects and between 12 and 18 months for Technology Improvement Projects. For SEA Grants, the grant term is set at 24 months. The grant terms for projects in the General TIG and SEA categories will begin on January 1, 2026. TIP Grants will have a start date of October 1, 2025. Alternate start dates may be available.

III. Grant Application Process

A. Technology Initiative Grant Application Process

The TIG application process will be administered in LSC's unified grants management system, GrantEase. Applicants in the General TIG and SEA categories must first submit a pre-application to LSC in GrantEase by March 21, 2025, at 11:59 p.m. ET, to be considered for a grant. After review by LSC staff, LSC's president decides which applicants will be asked to submit a full application. Applicants will be notified of approval to submit a full application by late April 2025. Full applications are due to LSC in the GrantEase system on June 18, 2025, at 11:59 p.m. ET. Once received, full applications will undergo a rigorous review by LSC staff. LSC's president makes the final decisions on funding for the TIG program.

As noted above, applicants applying for TIP funding are not required to submit pre-applications. LSC will launch the online application system for TIP by April 1, 2025, and set a submission deadline of May 23, 2025, at 11:59 p.m. ET. LSC follows a similar review process for applications in these categories, which includes LSC staff conducting a rigorous review of all proposals and the LSC president making final funding decisions.

B. Late or Incomplete Applications

LSC may consider a request to submit a pre-application after the deadline, but only if the applicant has submitted an email to techgrants@lsc.gov explaining the circumstances that caused the delay prior to the pre-application deadline. Communication with LSC staff, including assigned program liaisons, is not a substitute for sending a formal request and explanation to techgrants@lsc.gov. At its discretion, LSC may consider incomplete applications. LSC will determine whether it will consider late or incomplete applications on a case-by-case basis.

C. Multiple Pre-Applications

Applicants may submit multiple pre-applications. If applying for multiple grants that require pre-applications, applicants should submit separate pre-applications for each funding request.

D. Additional Information and Guidelines

Additional guidance and instructions on the pre-application and application processes for Technology Initiative Grants will be available and regularly updated at https://www.lsc.gov/grants/technology-initiative-grant-program.

(Authority: 42 U.S.C. 2996g(e).)

Dated: January 3, 2025.
Stefanie Davis,
Deputy General Counsel, Legal Services Corporation.

[FR Doc. 2025-00214 Filed 1-7-25; 8:45 am]

BILLING CODE 7050-01-P